DEPARTMENT OF AGRICULTURE

Office of Partnerships and Public Engagement

Advisory Committee on Minority Farmers

AGENCY: Office of Partnerships and Public Engagement (OPPE), USDA.

ACTION: Notice of public hybrid meeting.

SUMMARY: Pursuant to the provisions of the rules and regulations of the United States Department of Agriculture (USDA) and the Federal Advisory Committee Act (FACA), notice is hereby given that a public meeting of the Advisory Committee on Minority Farmers (ACMF) will be convened and accessible in-person and virtually. During this public meeting, the ACMF will consider USDA programs, services, and policies, and how they impact minority farmers. The ACMF seeks to recommend action-oriented strategies that maximize the participation of minority farmers in USDA programs and services.

DATES: The ACMF public meeting is scheduled for June 27-29, 2023, from 9 a.m. to 4 p.m. eastern daylight time (EDT)—each day.

ADDRESSES:

Meeting Pre-Registration: The public is asked to pre-register for the meeting by June 26, 2023, at https://ems8.intellor.com/?do=register&t=1&p=848053.

Your pre-registration should include: your name; organization or interest represented; if you plan to give oral comments; and if you require special accommodations. USDA will also accept day-of registrations throughout the meeting. Time will be allotted at the end of each morning and afternoon for comments from those attending in person or virtually. USDA will allow as many individual and organizational comments as time permits.

Oral Comments: Persons or organizations may register for one speaking slot per day. All persons wanting to make oral comments during the in-person meeting may check-in each day at the registration table beginning 8:30 a.m. EDT.

Written Comments: Written comments for consideration during the public meeting are requested by or before 3 p.m. EDT, June 26, 2023. The ACMF prefers that all written comments be submitted electronically via the pre-registration link or emailed to: acmf@usda.gov. However, written comments may also be submitted (i.e., postmarked) via first class mail to the address listed in the FOR FURTHER INFORMATION CONTACT section (below) prior to the deadline. Written comments will be accepted up to 7 days after the public meeting.

Availability of Meeting Materials: All written public comments received by June 29, 2023, will be compiled for committee members' review. Please visit: https://www.usda.gov/partnerships/advisory-committee-on-minority-farmers to review the agenda, meeting documents (notices), and summary minutes for this meeting.

Location: The ACMF public advisory meeting will be held at the Westin Savannah Harbor, 1 Resort Drive, Savannah, Georgia. Public attendees may register upon arrival beginning 8:30 a.m. each day. Public parking is available onsite for $20.00 per day.

Virtual Participation: Public participants may also view the committee proceedings and presentations via Webex at https://ems8.intellor.com/login/848046. Meeting ID and passcode is not required.

The call-in numbers and code for listen-only access are as follows:

U.S. Toll Free: 888-251-2949.

U.S. Toll: 215-861-0694.

Access Code: 8624 273#.

FOR FURTHER INFORMATION CONTACT: Ms. R. Jeanese Cabrera, Designated Federal Officer, Office of Partnerships and Public Engagement, 1400 Independence Avenue SW, Mail Stop 0601, Room 524-A, Washington, DC 20250; Phone: (202) 720-6350; Email: acmf@usda.gov. Individuals who use telecommunication devices for the deaf (TDD) may call the FCC Telecommunications Relay Service (TRS) at 7-1-1 between 8 a.m. and 8 p.m., eastern daylight time, Monday through Friday.

SUPPLEMENTARY INFORMATION: The Committee was established pursuant to section 14008 of the Food Conservation and Energy Act of 2008, Public Law 110-246, 122 Stat. 1651, 2008 (7 U.S.C. 2279), to ensure that socially disadvantaged farmers have equal access to USDA programs. The Secretary selected a diverse group of members representing a broad spectrum of persons to recommend solutions to the challenges of minority farmers and ranchers. The members also advise the Secretary on implementation of section 2501 of the Food, Agriculture, Conservation, and Trade Act of 1990 (the 2501 Program); maximizing the participation of minority farmers and ranchers in USDA programs; and civil rights activities within the Department relative to participants in its programs.

Agenda: Following on from the public meeting held in Tucson, AZ, the ACMF will review and revisit those agency documents, accompanying transcripts, subsequent research, and public comments, on USDA programs, services, and policies. During the upcoming meeting, the ACMF will focus on overarching topics distilled from prior presentations, updated research, and planning discussions, to consider and build final recommendations in the following order: Farm Service Agency (county committees; heirs' property); Rural Development (section 504 Dilapidated Housing; Health Care Infrastructure); Agricultural Marketing Services (community-based support; funding for food and other services; outreach and dissemination of information; specific requests of AMS subject matter experts); United States Department of Agriculture around these topics relevant for all agencies: Outreach and Communications—Build and Expand—Better and Smarter to effectively reach and engage more people in hard-to-reach places and situations; eliminate systemic and transactional barriers (particularly those that are unique to 1890s); and manage through impediments to build or rebuild rural infrastructure (e.g., hospitals, healthcare centers, power grids) and encouraging youth engagement in agriculture. And finally, the ACMF will consider recommendations for alternative means by which the USDA may more equitably manage its internal processes, incorporate efficiencies to make those processes more user-friendly for new minority farming or ranching businesses, and deliver enhanced support for those farmers and ranchers with existing operations in minority farming communities.

Dated: June 6, 2023.
Cikena Reid,
USDA Committee Management Officer.

[FR Doc. 2023-12372 Filed 6-8-23; 8:45 am]

BILLING CODE 3412-88-P